DEPARTMENT OF ENERGY

Federal Energy Regulatory Commission

Combined Notice of Filings #2

Take notice that the Commission received the following electric corporate filings:

Docket Numbers: EC16-35-000.

Applicants: Solar Star Colorado III, LLC.

Description: Application for Authorization Pursuant to FPA Section 203(a)(1)(A) and Requests for Expedited Action and Waivers of Certain Filing Requirements of Solar Star Colorado III, LLC.

Filed Date: 11/19/15.

Accession Number: 20151119-5079.

Comments Due: 5 p.m. ET 12/10/15.

Take notice that the Commission received the following electric rate filings:

Docket Numbers: ER12-162-014; ER11-3876-017; ER11-2044-017; ER15-2211-004; ER10-2611-015.

Applicants: Bishop Hill Energy II LLC, Cordova Energy Company LLC, MidAmerican Energy Company, MidAmerican Energy Services, LLC, Saranac Power Partners, L.P.

Description: Notice of Change in Status of the Berkshire Hathaway Eastern Parties.

Filed Date: 11/19/15.

Accession Number: 20151119-5074.

Comments Due: 5 p.m. ET 12/10/15.

Docket Numbers: ER13-75-010.

Applicants: Public Service Company of Colorado.

Description: Compliance filing: 2015-11-19_PSCo Order 1000 Comp filing to be effective 1/1/2015.

Filed Date: 11/19/15.

Accession Number: 20151119-5073.

Comments Due: 5 p.m. ET 12/10/15.

Docket Numbers: ER13-79-008.

Applicants: Public Service Company of New Mexico.

Description: Compliance filing: Order No. 1000 OATT Fifth Regional Compliance Filing to be effective 1/1/2015.

Filed Date: 11/19/15.

Accession Number: 20151119-5067.

Comments Due: 5 p.m. ET 12/10/15.

Docket Numbers: ER13-82-008.

Applicants: Arizona Public Service Company.

Description: Compliance filing: Order No. 1000 Compliance to be effective 1/1/2015.

Filed Date: 11/19/15.

Accession Number: 20151119-5088.

Comments Due: 5 p.m. ET 12/10/15.

Docket Numbers: ER13-91-007.

Applicants: El Paso Electric Company.

Description: Compliance filing: OATT Order No. 1000 Compliance Filing to Comply with October 20, 2015 Order to be effective 1/1/2015.

Filed Date: 11/19/15.

Accession Number: 20151119-5055.

Comments Due: 5 p.m. ET 12/10/15.

Docket Numbers: ER15-411-004.

Applicants: Arizona Public Service Company.

Description: Compliance filing: Rate Schedule No. 274—Planning Participation Agreement to be effective 1/1/2015.

Filed Date: 11/19/15.

Accession Number: 20151119-5124.

Comments Due: 5 p.m. ET 12/10/15.

Docket Numbers: ER16-91-000.

Applicants: Blythe Solar 110, LLC.

Description: Amendment to October 15, 2015 Blythe Solar 110, LLC tariff filing.

Filed Date: 11/18/15.

Accession Number: 20151118-5200.

Comments Due: 5 p.m. ET 11/30/15.

Docket Numbers: ER16-354-000.

Applicants: Southern California Edison Company.

Description: Tariff Cancellation: Notices of Cancellation GIA and Distribution Service Agmt Chester Adams to be effective 10/21/2015.

Filed Date: 11/19/15.

Accession Number: 20151119-5002.

Comments Due: 5 p.m. ET 12/10/15.

Docket Numbers: ER16-355-000.

Applicants: Colonial Eagle Solar, LLC.

Description: Baseline eTariff Filing: MBR Application and Tariff to be effective 11/20/2015.

Filed Date: 11/19/15.

Accession Number: 20151119-5035.

Comments Due: 5 p.m. ET 12/10/15.

Docket Numbers: ER16-356-000.

Applicants: The Connecticut Light and Power Company.

Description: Tariff Cancellation: Cancellation of CPV Towantic LLC Engineering Design Permitting Siting Agreement to be effective 4/13/2015.

Filed Date: 11/19/15.

Accession Number: 20151119-5045.

Comments Due: 5 p.m. ET 12/10/15.

Docket Numbers: ER16-357-000.

Applicants: Public Service Company of New Hampshire.

Description: Tariff Cancellation: Cancellation of Design and Engineering Agreement for New Hampshire Electric Coop to be effective 6/1/2015.

Filed Date: 11/19/15.

Accession Number: 20151119-5054.

Comments Due: 5 p.m. ET 12/10/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 19, 2015.
Nathaniel J. Davis, Sr.,
Deputy Secretary.

[FR Doc. 2015-29962 Filed 11-24-15; 8:45 am]

BILLING CODE 6717-01-P